SUSQUEHANNA RIVER BASIN COMMISSION

Commission Meeting

AGENCY: Susquehanna River Basin Commission.

ACTION: Notice.

SUMMARY: The Susquehanna River Basin Commission will conduct its regular business meeting on December 11, 2020, from Harrisburg, Pennsylvania. Details concerning the matters to be addressed at the business meeting are contained in the Supplementary Information section of this notice. Also the Commission published a document in the Federal Register on October 7, 2020, concerning its public hearing on November 5, 2020, in Harrisburg, Pennsylvania.

DATES: The meeting will be held on Friday, December 11, 2020, at 9 a.m.

ADDRESSES: The meeting will be conducted telephonically from the Susquehanna River Basin Commission, 4423 N. Front Street, Harrisburg, PA 17110.

FOR FURTHER INFORMATION CONTACT: Jason E. Oyler, General Counsel and Secretary to the Commission, telephone: 717-238-0423; fax: 717-238-2436.

SUPPLEMENTARY INFORMATION: The business meeting will include actions or presentations on the following items: (1) Adoption of a policy to incentivize the use of impaired waters; (2) adoption of an updated regulatory program fee schedule; (3) adoption of a general permit for groundwater remediation projects; (4) ratification/approval of contracts/grants; (5) a report on delegated settlements; and (6) Regulatory Program projects.

This agenda is complete at the time of issuance, but other items may be added, and some stricken without further notice. The listing of an item on the agenda does not necessarily mean that the Commission will take final action on it at this meeting. When the Commission does take final action, notice of these actions will be published in the Federal Register after the meeting. Any actions specific to projects will also be provided in writing directly to project sponsors.

Due to the COVID-19 orders, the meeting will be conducted telephonically and there will be no physical public attendance. The public is invited to attend the Commission's business meeting by telephone conference and may do so by dialing Conference Call # 1-888-387-8686, the Conference Room Code # 9179686050. Written comments pertaining to items on the agenda at the business meeting may be mailed to the Susquehanna River Basin Commission, 4423 North Front Street, Harrisburg, Pennsylvania 17110-1788, or submitted electronically through www.srbc.net/about/meetings-events/business-meeting.html. Such comments are due to the Commission on or before December 9, 2020. Comments will not be accepted at the business meeting noticed herein.

Authority: Public Law 91-575, 84 Stat. 1509 et seq., 18 CFR parts 806, 807, and 808.

Dated: November 5, 2020.
Jason E. Oyler,
General Counsel and Secretary to the Commission.

[FR Doc. 2020-24958 Filed 11-10-20; 8:45 am]

BILLING CODE 7040-01-P